Proclamation 10273 of September 30, 2021

National Youth Substance Use Prevention Month, 2021

By the President of the United States of America

A Proclamation

Far too many families across our Nation have been impacted by addiction and the overdose epidemic. In 2020, more than 93,000 people died from an overdose—93,000 families forced to bury a piece of their souls. The impact of this crisis echoes in communities across the Nation, in the empty chairs in classrooms and around kitchen tables. During National Youth Substance Use Prevention Month, we reaffirm our commitment to helping America's youth overcome this epidemic and lead healthy, fulfilling lives.

The COVID-19 pandemic has only exacerbated the need to provide more resources to address substance use disorder. Substance use disorder touches families in every community, and it is essential that we invest in a broad range of services, including prevention, harm reduction, treatment, and recovery support services for mental health and substance use.

My Administration has been working to expand evidence-based prevention programs along with access to care and recovery support services. We are committed to preventing substance use among our Nation's youth—including alcohol, tobacco products, illicit drugs, and misused prescription medications—by bringing communities together to find local solutions. Through the White House's Office of National Drug Control Policy, the Drug-Free Communities Support Program helps equip community coalitions to reduce youth substance use at the local level. We must continue to encourage parents, caregivers, educators, and other members of the community to play an active role in promoting evidence-based prevention efforts that encourage healthy lifestyles, promote alternatives to substance use, and educate young people about the harms associated with substance use. We know that delaying substance use until after adolescence, when the brain has fully developed, decreases the likelihood of an individual developing a substance use disorder. We also know that smart investments in effective school-based prevention programs save lives and save our economy money in the form of averted medical costs and improved productivity.

My Administration is also committed to advancing racial equity in our approach to drug policy—implementing fairer, more effective, and more culturally resonant policies to prevent, address, and treat substance use disorder. That is why we are supporting the development of tailored tools that strengthen prevention efforts in diverse communities. These include racial equity trainings, resources on inclusion and diversity, and racial equity decision-making frameworks. Our youth-focused efforts must also account for the fact that poverty, homelessness, trauma, and other adverse childhood experiences affect drug use and the overall health of our Nation's youth—especially with respect to people of color, who are disproportionately impacted by these factors. By advancing equity in every part of our society—including our education, health care, criminal justice, and housing systems—we can build a future where all Americans can lead healthy and fulfilling lives.

This October, we honor all those who champion evidence-based youth substance use prevention and recommit ourselves to ensuring that all Americans have the skills, knowledge, and resources to live full and healthy lives. Substance use disorder is a disease, and I will do everything within my power to expand access to evidence-based prevention, treatment, harm reduction, and recovery support services as well as reduce the supply of illicit drugs to keep more Americans safe.

NOW, THEREFORE, I, JOSEPH R. BIDEN JR., President of the United States of America, by virtue of the authority vested in me by the Constitution and the laws of the United States, do hereby proclaim October 2021 as National Youth Substance Use Prevention Month. I call on communities, parents, caregivers, educators, employers, healthcare professionals, law enforcement officials, faith and community leaders, and all Americans to take action to promote evidence-based prevention and improve the health of our Nation.

IN WITNESS WHEREOF, I have hereunto set my hand this thirtieth day of September, in the year of our Lord two thousand twenty-one, and of the Independence of the United States of America the two hundred and forty-sixth.

[FR Doc. 2021-21906

Filed 10-4-21; 11:15 am]

Billing code 3395-F2-P